DEPARTMENT OF ENERGY

Federal Energy Regulatory Commission

Combined Notice of Filings #1

Take notice that the Commission received the following exempt wholesale generator filings:

Docket Numbers: EG16-125-000.

Applicants: BNB Lamesa Solar LLC.

Description: Notice of Self-Certification of Exempt Wholesale Generator Status of BNB Lamesa Solar LLC.

Filed Date: 6/30/16.

Accession Number: 20160630-5447.

Comments Due: 5 p.m. ET 7/21/16.

Take notice that the Commission received the following electric rate filings:

Docket Numbers: ER10-2042-021; ER10-1941-008; ER10-1938-016; ER13-1407-005; ER10-1934-015; ER10-1893-015; ER10-2985-019; ER10-3049-020; ER10-3051-020; ER10-1888-008; ER10-1885-008; ER10-1884-008; ER10-1883-008; ER10-1878-008; ER10-1876-008; ER10-1875-008; ER10-1873-008; ER12-1987-006; ER10-1947-008; ER10-1864-007; ER10-1862-015; ER12-2261-006; ER10-1865-008.

Applicants: Calpine Energy Services, L.P., Calpine Gilroy Cogen, L.P., Calpine Power America—CA, LLC, CCFC Sutter Energy, LLC, CES Marketing IX, LLC, CES Marketing X, LLC, Champion Energy Marketing LLC, Champion Energy Services, LLC, Champion Energy, LLC, Creed Energy Center, LLC, Delta Energy Center, LLC, Geysers Power Company, LLC, Gilroy Energy Center, LLC, Goose Haven Energy Center, LLC, Los Esteros Critical Energy Facility, LLC, Los Medanos Energy Center, LLC, Metcalf Energy Center, LLC, O.L.S. Energy-Agnews, Inc., Otay Mesa Energy Center, LLC, Pastoria Energy Center, LLC, Power Contract Financing, L.L.C., Russell City Energy Company, LLC, South Point Energy Center, LLC.

Description: Updated Market Power Analysis for the Southwest Region of the Calpine MBR Sellers.

Filed Date: 6/30/16.

Accession Number: 20160630-5444.

Comments Due: 5 p.m. ET 8/29/16.

Docket Numbers: ER10-3115-004; ER10-3117-006; ER10-3300-011; ER11-4060-007; ER11-4061-007; ER13-445-007; ER14-2823-005; ER15-1170-003; ER15-1171-003; ER15-1172-003; ER15-1173-003.

Applicants: Lea Power Partners, LLC, Waterside Power, LLC, Badger Creek Limited, Double C Generation Limited Partnership, High Sierra Limited, Kern Front Limited, Bear Mountain Limited, Chalk Cliff Limited, Live Oak Limited, McKittrick Limited, La Paloma Generating Company, LLC.

Description: Supplement to April 21, 2016 Notice of Change in Status Lea Power Partners, LLC, et al.

Filed Date: 6/30/16.

Accession Number: 20160630-5442.

Comments Due: 5 p.m. ET 7/21/16.

Docket Numbers: ER15-1883-003; ER15-1418-003; ER16-632-001; ER16-91-003; ER10-1847-009; ER10-1856-009; ER10-1890-009; ER11-2160-009; ER10-1906-008; ER13-2112-005; ER16-90-003; ER15-2477-003; ER11-3635-008; ER10-2348-008; ER10-1962-009; ER15-1375-003; ER11-4677-010; ER12-2444-009; ER12-676-008; ER11-2192-010; ER15-1016-003; ER10-1989-009; ER11-4678-010; ER12-631-010; ER10-1971-028; ER11-4462-019.

Applicants: Adelanto Solar, LLC, Adelanto Solar II, LLC, Blythe Solar II, LLC, Blythe Solar 110, LLC, Diablo Winds, LLC, FPL Energy Cabazon Wind, LLC, FPL Energy Green Power Wind, LLC, FPL Energy Montezuma Wind, LLC, FPL Energy New Mexico Wind, LLC, Genesis Solar, LLC, Golden Hills Interconnection, LLC, Golden Hills Wind, LLC, Hatch Solar Energy Center I, LLC, High Lonesome Mesa, LLC, High Winds, LLC, McCoy Solar, LLC, NextEra Energy Montezuma II Wind, LLC, North Sky River Energy, LLC, Perrin Ranch Wind, LLC, Red Mesa Wind, LLC, Shafter Solar, LLC, Sky River LLC, Vasco Winds, LLC, Windpower Partners 1993, LLC, NextEra Energy Power Marketing, LLC, NEPM II, LLC.

Description: Triennial Market Power Update for the Southwest region of the NextEra Companies.

Filed Date: 6/30/16.

Accession Number: 20160630-5451.

Comments Due: 5 p.m. ET 8/29/16.

Docket Numbers: ER16-38-002; ER16-39-002.

Applicants: Kingbird Solar A, LLC, Kingbird Solar B, LLC.

Description: Notice of Non-Material Change in Circumstances and Limited Request for Privileged Treatment of Kingbird Solar A, LLC, et al.

Filed Date: 6/30/16.

Accession Number: 20160630-5445.

Comments Due: 5 p.m. ET 7/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 6, 2016.
Nathaniel J. Davis, Sr.,
Deputy Secretary.

[FR Doc. 2016-16387 Filed 7-11-16; 8:45 am]

BILLING CODE 6717-01-P